POSTAL SERVICE

Addition of USPS ConnectTM Local Mail

AGENCY: Postal Service™.

ACTION: Notice.

SUMMARY:

The Postal Service hereby provides notice it has filed a request with the Postal Regulatory Commission to add USPS Connect Local Mail to the market dominant product list as a permanent price category.

DATES: The request was submitted to the Postal Regulatory Commission on November 9, 2022.

FOR FURTHER INFORMATION CONTACT: Krista Becker at (202) 268-7345 or Nickolas Card at (202) 268-7574.

SUPPLEMENTARY INFORMATION: On November 9, 2022, the United States Postal Service filed with the Postal Regulatory Commission a United States Postal Service Revised Request to Convert USPS Connect Local Mail to a Permanent Offering pursuant to 39 U.S.C. 3642. Documents pertinent to this request are available at http://www.prc.gov, Docket No. MC2023-12.

Sarah Sullivan,
Attorney, Ethics & Legal Compliance.

[FR Doc. 2022-25363 Filed 11-21-22; 8:45 am]

BILLING CODE 7710-12-P